DEPARTMENT OF VETERANS AFFAIRS

[OMB Control No. 2900-0004]

Agency Information Collection Activity: Application for Dependency and Indemnity Compensation, Survivors Pension and Accrued Benefits by a Surviving Spouse or Child (Including Death Compensation if Available); Application for Dependency and Indemnity Compensation by a Surviving Spouse or Child—In-Service Death Only; Application for DIC, Survivors Pension, and/or Accrued Benefits

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before May 24, 2022.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0004” in any correspondence. During the comment period, comments may be viewed online through FDMS.

FOR FURTHER INFORMATION CONTACT: Maribel Aponte, Office of Enterprise and Integration, Data Governance Analytics (008), 1717 H Street NW, Washington, DC 20006, (202) 266-4688 or email maribel.aponte@va.gov. Please refer to “OMB Control No. 2900-0004” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Title 38 U.S.C. 1151; 1310; 1541; 1542; 5101(a); and 5121.

Title:

VA Form no. | Title
21P-534 | Application for Dependency and Indemnity Compensation, Survivors Pension and Accrued Benefits by a Surviving Spouse or Child (Including Death Compensation if Available).
21P-534a | Application for Dependency and Indemnity Compensation by a Surviving Spouse or Child—In-Service Death Only.
21P-534EZ | Application for DIC, Survivors Pension, and/or Accrued Benefits.

OMB Control Number: 2900-0004.

Type of Review: Revision of a currently approved collection.

Abstract: The VA Form 21P-534 is used to gather the necessary information to determine the eligibility of surviving spouses and children for dependency and indemnity compensation (DIC), death pension, accrued benefits, and death compensation. VA Form 21P-534a is an abbreviated application for DIC that is used only by surviving spouses and children of veterans who died while on active duty service. The VA Form 21P-534EZ is used for the Fully Developed Claims (FDC) program for pension claims, DIC and accrued claims.

VA Form 21P-534EZ has been updated, to include:

• Removed all Parent's DIC questions from the form as this will be covered under the VA Form 21-535, Application for Dependency and Indemnity Compensation by Parent(s) (Including Accrued Benefits and Death Compensation When Applicable).

• Updated instructions.

• Added an optional use Survivors Benefits Application Checklist for applicant's benefit to assist in organizing submission of claim.

• Separated Section I and II to include Veteran's Identification Information/Claimant's Identification Information.

• Removed questions—How many times veteran married?/How many times claimant married? as regulations allow.

• Removed mailing address of nursing home or facility from Section VIII as this is covered in the Worksheet the claimant is directed to complete.

• Added an income source section and updated Section IV instructions to reflect this change.

• Added an Alternate Signer Certification and Signature (Section XVI).

• Restructured Worksheet for An Assisted Living, Adult Daycare, or a Similar Facility and Worksheet for In-Home Attendant Expenses and questions removed for better clarity.

• New standardization data points; to include optical character recognition boxes. This is a non-substantive change.

• The burden has been increased from 25 to 40 minutes as the 25 minute time frame did not fit the length of this form.

No changes have been made to the VA Form 21P-534, and VA Form 21P-534a.

Affected Public: Individuals and households.

Estimated Annual Burden: 130,138 hours.

Estimated Average Burden per Respondent: 43 minutes.

Frequency of Response: On occasion.

Estimated Number of Respondents: 181,588.

By direction of the Secretary.
Maribel Aponte,
VA PRA Clearance Officer, Office of Enterprise and Integration/Data Governance Analytics, Department of Veterans Affairs.

[FR Doc. 2022-06318 Filed 3-24-22; 8:45 am]

BILLING CODE 8320-01-P